DEPARTMENT OF THE INTERIOR

National Park Service

[NPS-WASO-NAGPRA-NPS0034031; PPWOCRADN0-PCU00RP14.R50000]

Notice of Inventory Completion: Museum of Indian Arts & Culture, Museum of New Mexico, Santa Fe, NM

AGENCY: National Park Service, Interior.

ACTION: Notice.

SUMMARY: The Museum of Indian Arts & Culture, Museum of New Mexico, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Museum of Indian Arts & Culture. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Museum of Indian Arts & Culture at the address in this notice by July 11, 2022.

FOR FURTHER INFORMATION CONTACT: Ms. Julia Clifton, Curator of Archaeological Research Collections, Museum of Indian Arts & Culture, 710 Camino Lejo, Santa Fe, NM 87504, telephone (505) 476-4444, email julia.clifton@state.nm.us.

SUPPLEMENTARY INFORMATION: Notice is here given in accordance with the Native American Graves Protection and Repatriation Act (NAGPRA), 25 U.S.C. 3003, of the completion of an inventory of human remains and associated funerary objects under the control of the Museum of Indian Arts & Culture, Museum of New Mexico, Santa Fe, NM. The human remains and associated funerary objects were removed from the Palace of the Governors, Santa Fe, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Museum of Indian Arts & Culture professional staff in consultation with representatives of the Hopi Tribe of Arizona; Ohkay Owingeh, New Mexico (previously listed as Pueblo of San Juan); Pueblo of Nambe, New Mexico; Pueblo of Pojoaque, New Mexico; Pueblo of San Ildefonso, New Mexico; Pueblo of Santa Clara, New Mexico; Pueblo of Tesuque, New Mexico; and the Santo Domingo Pueblo (previously listed as Kewa Pueblo, New Mexico, and as Pueblo of Santo Domingo) (hereafter referred to as “The Tribes”).

History and Description of the Remains

As described below, in 1962, 1965, and 1974-1975, human remains representing, at minimum, 26 individuals were removed from the Palace of the Governors in Santa Fe County, NM. The Palace building is owned by the Museum of New Mexico (MNM) and is part of the New Mexico History Museum. The fragmentary human remains belong to 16 adults, two adolescents, two children, and six infants. With two exceptions, the human remains of all 26 individuals were recovered from sediments below the 20th century floor of the Palace structure.

In 1962, during the renovation of Room 4 of the Palace of the Governors, sub-floor excavations were conducted by Museum staff members Bruce Ellis and Stanly Stubbs. In deposits dating to the Pueblo Revolt era (A.D. 1680-1693), the fragmentary remains of an infant 7-10 months old were recovered.

In 1965, while the floor of the Southeast room of the Palace was being replaced, excavations were conducted by volunteers under the direction of MNM staff member Robert Alexander. The fragmentary remains belonging to one female adult, one adolescent who was probably male and approximately 15-18 years old, and one adult of undetermined sex were recovered.

In late 1974 and early 1975, prior to planned renovations to the Palace interior, extensive excavations under the floors of Rooms 5, 7, 8, and the West Hall were undertaken by Museum personnel and volunteers under the direction of Cordelia Snow. The extremely fragmentary remains belonging to three adult females, five infants under the age of one year, two children between the age of one and three years, two adolescents 11-14 years old, and eight adults of undetermined sex were recovered.

In 1974, a foot bone belonging to an adult of undetermined sex and a tooth belonging to an adult of undetermined sex were recovered from the Patio area of the Palace. No stratigraphic context was recorded for these two individuals.

Immediately following excavation, all the human remains listed in this notice were transferred to the Laboratory of Anthropology (now the Museum of Indian Arts & Culture/Laboratory of Anthropology), a sister agency of the New Mexico History Museum within the Museum of New Mexico. No known individuals were identified. The four associated funerary objects are one lot of fabric remnants, one sherd, one Olivella shell bead, and one metal straight pin.

Established in 1610 by Spanish colonists from Mexico as the seat of their colonial administration, the Palace of the Governors in Santa Fe, New Mexico is one of the oldest continually occupied buildings in the continental United States. Extensively modified over the centuries, today it occupies a place on the Plaza in downtown Santa Fe. According to oral historical information from the Pueblo of Tesuque, before the Spanish arrived in the area, the area of downtown Santa Fe had been occupied for centuries by the Pueblo's Tewa ancestors as the village of Oga-Pogee (the place of the white shell). During the Pueblo Revolt of 1680, the Palace served as a fortress for besieged Spanish colonists. Historical records indicate that from late 1680, when the colonists retreated to the El Paso area, until the return of the Spanish in December 1693, the Palace was rebuilt as a Pueblo village and inhabited by Northern and Southern Tewa people. This Native occupation is supported by archeological and geographic information, and its occupation by the ancestors of several contemporary Tribes is consistent with historical documents relating to the fate of the original Palace of the Governors following the Pueblo Revolt.

Over the four years following the return of the Spanish, New Mexico was wracked by widespread violence, as Diego de Vargas and his army attempted to subdue the Pueblos. The refugees from the Pueblo that had been established in the Palace of the Governors fled to other villages, but many of those villages, in turn, were subsequently abandoned or destroyed by Vargas, creating additional waves of refugees. The events of this period are complex and painful, and probably because they are so traumatic, are not easily accessible through oral history. Most of the Tewa villages (the Pueblos of Tesuque, Pojoaque, San Ildefonso, Santa Clara, Nambe, and Ohkay Owingeh) occupied by the Northern Tewa managed to survive this tumultuous period and are still occupied today by their descendants. The Southern Tewa villages located southeast of Santa Fe were abandoned during this period of violence and political unrest. By 1706, the Southern Tewa had left their villages and moved north, to Santa Fe and beyond, and into the region occupied by the Northern Tewa, as well as west, to the Pueblo of Santo Domingo and the Hopi villages.

Except for the fragmentary human remains of the individuals recovered from the Palace Patio, the human remains of all the other individuals, which were recovered from sub-floor deposits, date to the Native American occupation of the building following the Pueblo Revolt in August 1680. While the stratigraphic contexts for the human remains of the two individuals recovered from the Palace Patio in 1974 were not recorded, no Spanish Colonial or historic Euro-American burials are documented in the Palace Courtyard/Patio area north of the current Palace structure, within what could have been the limits of the post-Revolt era Pueblo. Consequently, the single metatarsal element and the tooth found in this area are presumed to be Native American and related either to the pre-Spanish occupation or to the Revolt era occupation by Puebloan people.

Determinations Made by the Museum of Indian Arts & Culture, Museum of New Mexico

Officials of the Museum of Indian Arts & Culture, Museum of New Mexico have determined that:

• Pursuant to 25 U.S.C. 3001(9), the human remains described in this notice represent the physical remains of 26 individuals of Native American ancestry.

• Pursuant to 25 U.S.C. 3001(3)(A), the four objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Ms. Julia Clifton, Curator of Archaeological Research Collections, Museum of Indian Arts & Culture, 710 Camino Lejo, Santa Fe, NM 87504, telephone (505) 476-4444, email julia.clifton@state.nm.us, by July 11, 2022. After that date, if no additional requestors have come forward, transfer of control of the human remains and associated funerary objects to The Tribes may proceed.

The Museum of Indian Arts & Culture, Museum of New Mexico is responsible for notifying The Tribes that this notice has been published.

Dated: June 1, 2022.
Melanie O'Brien,
Manager, National NAGPRA Program.

[FR Doc. 2022-12428 Filed 6-8-22; 8:45 am]

BILLING CODE 4312-52-P